ENVIRONMENTAL PROTECTION AGENCY

[EPA-HQ-OECA-2011-0234; FRL-9979-30-OECA]

Proposed Information Collection Request; Comment Request; Correction

AGENCY: Environmental Protection Agency (EPA).

ACTION: Notice; correction.

SUMMARY: The Environmental Protection Agency (EPA) issued a document in the Federal Register of May 30, 2018, concerning EPA's planned submission of 73 existing Information Collection Requests (ICRs) to the Office of Management and Budget (OMB) for review and renewed approval under the Paperwork Reduction Act (PRA). Item number 37, entitled: “NESHAP for Petroleum Refineries (40 CFR part 63, subpart CC)” and identified by EPA ICR No. 1692.10 and OMB Control No. 2060-0340, represents the renewal of an existing ICR that is scheduled to expire on May 31, 2019. There was an error in the Docket ID Number. This document corrects that typographical error.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION:

Correction

In the Federal Register of May 30, 2018, in FR Doc. 2018-11583, on page 24790, in the first column, 31st line, entry “[37]” to read:

[37] Docket ID Number: EPA-HQ-OECA-2011-0234; Title: NESHAP for Petroleum Refineries (40 CFR part 63, subpart CC) (Renewal); EPA ICR Number 1692.10; OMB Control Number 2060-0340; Expiration Date: May 31, 2019.

Dated: May 30, 2018.
Martha Segall,
Acting Director, Monitoring, Assistance and Media Programs Division, Office of Compliance.

[FR Doc. 2018-13468 Filed 6-21-18; 8:45 am]

BILLING CODE 6560-50-P